DEPARTMENT OF JUSTICE

Notice of Lodging of Proposed Consent Decree Under the Clean Air Act

On September 30, 2019, the Department of Justice lodged a proposed consent decree with the United States District Court for the Eastern District of Virginia in the lawsuit entitled United States and the Commonwealth of Virginia v. KmX Chemical Corporation, Civil Action No. 2:19-cv-00517-AWA-DEMVAED.

The Complaint filed by the United States and the Commonwealth alleges claims under the Clean Air Act and seeks injunctive relief and civil penalties for violations of the leak detection and repair regulations that govern at the KmX Chemical Corporation's chemical reclamation facility in New Church, Virginia. The consent decree requires the defendant to perform injunctive relief and pay a $60,000 civil penalty.

The publication of this notice opens a period for public comment on the consent decree. Comments should be addressed to the Assistant Attorney General, Environment and Natural Resources Division, and should refer to United States and the Commonwealth of Virginia v. KmX Chemical Corporation, D.J. Ref. No. 90-5-2-1-11442. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $15.75 payable to the United States Treasury.

Robert Brook,
Assistant Section Chief, Environmental Enforcement Section, Environment and Natural Resources Division.

[FR Doc. 2019-22280 Filed 10-10-19; 8:45 am]

BILLING CODE 4410-15-P